DEPARTMENT OF LABOR

Employment Standards Administration

Proposed Collection; Comment Request

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Applications to Employ Special Industrial Homeworkers and Workers with Disabilities (Forms WH-2, WH-226 and WH-226A). A copy of the proposed information collection request can be obtained by contacting the office listed below in the addresses section of this Notice.

DATES: Written comments must be submitted to the office listed in the addresses section below on or before September 18, 2007.

ADDRESSES: Ms. Hazel M. Bell, U.S. Department of Labor, 200 Constitution Ave., NW., Room S-3201, Washington, DC 20210, telephone (202) 693-0418, fax (202) 693-1451, e-mail bell.hazel@dol.gov. Please use only one method of transmission for comments (mail, fax, or e-mail).

SUPPLEMENTARY INFORMATION:

I. Background

Fair Labor Standards Act (FLSA) section 11(d), 29 U.S.C. 211(d), authorizes the Secretary of Labor to regulate, restrict or prohibit industrial homework as necessary to prevent circumvention or evasion of the minimum wage requirement of the Act. The Department of Labor (DOL) restricts homework in seven industries (i.e., knitted outerwear, women's apparel, jewelry manufacturing, gloves and mittens, button and buckle manufacturing, handkerchief manufacturing and embroideries) to those employers who obtain certificates.

To prevent curtailment of employment opportunities for workers with disabilities, FLSA section 14(c), 29 U.S.C. 214(c), authorizes employers who obtain a certificate from DOL to pay special minimum wages (i.e., wages less than the Federal minimum wage) to workers whose productivity is impaired by their disability. The FLSA defines a “worker with a disability” as an individual whose earning or productive capacity is impaired by age or physical or mental disability.

Employers use Form WH-2 to obtain certificates to employ individual homeworkers in one of the restricted homework industries. Upon application by the homeworker and the employer, DOL may issue a certificate to the employer authorizing employment of an individual homeworker, provided (1) it is shown that the worker is unable to adjust to factory work because of age or physical or mental disability or is unable to leave home because the worker's presence is required to care for an invalid in the home, and (2) the worker has been engaged in industrial homework in the particular industry prior to certain specified dates as set forth in the regulations (may be waived if causes unusual hardship) or is engaged in industrial homework under the supervision of a State Vocational Rehabilitation Agency.

Employers use Form WH-226 and the supplemental data Form WH-226A when obtaining authorization to employ workers with disabilities in competitive employment in work centers and in hospitals or institutions at subminimum wages that are commensurate with those paid to workers with no disabilities. Commensurate wages are based on the prevailing wages paid to experienced workers with disabilities performing essentially the same type, quality, and quantity of work in the same locality where the employee(s) with disability is employed. This form may be used by school officials to request authorization for groups of students with disabilities to participate in school work experience programs, by State vocational rehabilitation counselors, and by Veterans Affairs' officials to grant or extend temporary authorization to employ on-the-job trainees with disabilities.

This information collection is currently approved for use through December 31, 2007.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

DOL seeks approval for the extension of this information collection in order to ensure effective administration of agency programs regarding the employment of homeworkers in restricted industries and payment of subminimum wages to workers with disabilities.

Type of Review: Extension.

Agency: Employment Standards Administration.

Title: Applications to Employ Special Industrial Homeworkers and Workers with Disabilities.

OMB Number: 1215-0005.

Agency Number: WH-2, WH-226, WH-226A.

Affected Public: Business or other for-profit.

Total Respondents: 3,050.

Total Responses: 12,050.

Form | Number of respondents | Number of responses | Time per response (in minutes) | Burden hours
WH-2 | 50 | 50 | 30 | 25
WH-226 | 3,000 | 3,000 | 45 | 2,250
WH-226A | 3,000 | 9,000 | 45 | 6,750

Frequency: Annually.

Estimated Total Burden Hours: 9,025.

Total Burden Cost (capital/startup): $0.

Total Burden Cost (operating/maintenance): $1,342.

Comments submitted in response to this notice will be summarized and/or included in the request for Office of Management and Budget approval of the information collection request; they will also become a matter of public record.

Dated: July 16, 2007.
Hazel Bell,
Acting Chief, Branch of Management Review and Internal Control, Division of Financial Management, Office of Management, Administration and Planning, Employment Standards Administration.

[FR Doc. E7-14041 Filed 7-19-07; 8:45 am]

BILLING CODE 4510-27-P